DEPARTMENT OF DEFENSE

Department of the Army, Corps of Engineers

Intent To Prepare a Draft Supplemental Environmental Impact Statement To Evaluate Improvements to the Mobile Harbor Federal Navigation Channel, Mobile, Alabama

AGENCY: Department of the Army, U.S. Army Corps of Engineers, DOD.

ACTION: Notice of intent.

SUMMARY: The Mobile District, U.S. Army Corps of Engineers (Corps) intends to prepare a Draft Supplemental Environmental Impact Statement (DSEIS) to address the potential impacts associated with improving the Mobile Harbor Federal Navigation Channel in Mobile County, AL. The DSEIS will be used as a basis for ensuring compliance with the National Environmental Policy Act (NEPA) and evaluating alternative plans including the “No Action.” The proposed alternatives identified in the Alternatives Milestone analysis will be evaluated including widening and deepening of selected areas of the navigation channel within the currently authorized dimensions.

DATES: The scoping meeting will be held on Tuesday, January 12, 2015 from 5:00 p.m. to 8:00 p.m.

ADDRESSES: The scoping meeting will be held at the Mobile Alabama Cruise Terminal, 201 S. Water Street, Mobile, AL 36602.

FOR FURTHER INFORMATION CONTACT: Questions about the DSEIS should be addressed to Mr. Larry Parson, Coastal Environment Team, Mobile District, U.S. Army Corps of Engineers, P.O. Box 2288, Mobile, AL 36628 by telephone (251) 690-3139 or email him at larry.e.parson@usace.army.mil.

SUPPLEMENTARY INFORMATION:

1. As Authorized in the Water Resources Development Act of 1986 and per the 1981 Chief's Report for Mobile Harbor, Alabama, the major components of the project are as follows: (a) Deepen and widen entrance channel over the bar to 57 by 700 feet, a distance of about 7.4 miles, (b) deepen and widen Mobile Bay Channel from mouth of bay to south of Mobile River, 55 by 550 feet, a distance of about 27.0 miles, (c) deepen and widen an additional 4.2 miles of Mobile Bay Channel to 55 by 650 feet, (d) provide 55‐foot deep anchorage area and turning basin in vicinity of Little Sand Island, and (e) deepening the Mobile River channel to 55 feet to a point about 1 mile below the Interstate 10 and U.S. 90 highway tunnels. Also, per the Fiscal Year (FY) 2015 CROmnibus (Pub. L. 113‐235): Sec. 110, the Limited Reevaluation Report (LRR) initiated in FY 2012 for the Mobile Harbor, Alabama navigation project shall include evaluation of the full depth of the project as authorized under section 201 of Public Law 99‐662 (110 Stat. 4090) at the same non‐Federal share of the cost as in the design agreement executed on August 14, 2012.

2. The evaluation will examine the costs and benefits as well as the environmental impacts of modifying the maintained dimensions of the existing Federal project within its authorized limits. The purpose of the study will be to determine improvements for safety and efficiency of harbor users. Vessels are experiencing delays leaving and arriving at port facilities and inefficiencies have increased as the volume of cargo has grown and larger vessels call on the port to handle the increased cargo. Construction of Mobile Harbor to 45‐foot depth was completed in FY 1994. The construction depth was limited to 45 feet because the sponsor did not have the funds to construct to the fully authorized depth. A 1300‐foot extension in the river channel was a separable element new start with the Project Partnership Agreement (PPA) signed in FY 98 and construction completed in FY 2000. A 1200‐foot and a 2100‐foot extension in the river channel were also separable element new starts with the PPA signed in FY 2004 and work completed in FY 2008. The Turning Basin was also a separable element new start with the PPA signed in FY 2009 and construction completed in August 2010. Due to traffic changes, vessel delays began being experienced into and out of the port as traffic was limited to one‐way as larger ships transited the channel. The Alabama State Port Authority (ASPA) requested that the Corps consider widening a portion of the authorized channel to allow two‐way traffic to reduce delays. Subsequently, the Corps initiated an LRR to consider widening a portion of the upper bay channel. The design agreement for the LRR was executed on August 14, 2012. After initial analysis and coordination with the ASPA and its users, the design agreement for the LRR was amended on April 14, 2014 to account for a change in location for the proposed widening to include an approximate 5-mile section of the lower bay channel up to the authorized width of 550 feet and to widen an approximate 2-mile section of the bar channel to its authorized width of 700 feet (all work within the existing project authorization). On June 12, 2014, the ASPA requested that the Corps undertake additional studies to determine the feasibility of deepening and widening the channel to its full authorized depths and widths. Per letter dated October 20, 2014, the Assistant Secretary of the Army (ASA) approved the direction of General Investigation funds to complete Preconstruction Engineering and Design for the channel widening for Mobile Harbor to initiate a General Reevaluation Report (GRR) to evaluate deepening and widening of the channel to its full authorized dimensions. This letter also directed the Corps to halt all work on the LRR being prepared for the widening project.

3. Scoping:

a. The Corps invites full public participation to promote open communication on the issues surrounding the proposal. All Federal, State, and local agencies, and other persons or organizations that have an interest are urged to participate in the NEPA scoping process. Public meetings will be held to help identify significant issues and to receive public input and comment.

b. The DSEIS will analyze the potential social, economic, and environmental impacts to the local area resulting from improvements to the Mobile Harbor Navigation Project. Specifically, the following major issues will be analyzed in depth in the DSEIS: Hydrologic and hydraulic regimes, water quality, effects on natural resources, sediment transport, threatened and endangered species, essential fish habitat and other marine habitat, air quality, cultural resources, transportation systems, alternatives, secondary and cumulative impacts, socioeconomic impacts, environmental justice (effect on minorities and low-income groups) (Executive Order 12898), and protection of children (Executive Order 13045).

c. The Corps will serve as the lead Federal agency in the preparation of the DSEIS. It is anticipated that the following agencies will be invited and will accept cooperating agency status for the preparation of the DSEIS: U.S. Environmental Protection Agency, U.S. Fish and Wildlife Service, National Marine Fisheries Service, Department of Interior, U.S. Geological Survey, Federal Emergency Management Agency, U.S. Department of Transportation, Alabama Department of Environmental Management, Alabama Department of Conservation and Natural Resources, Alabama State Port Authority, Alabama Secretary of State, and Alabama State Historic Preservation Office.

4. The scoping meeting will be held on (see DATES and ADDRESSES). Actual time(s) and place(s) for subsequent meetings or workshops will be announced by the Corps by issuance of a public notice and/or notices in the local media.

5. It is anticipated that the DSEIS will be made available for public review in July 2018.

Curtis M. Flakes,
Chief, Planning and Environmental Division.

[FR Doc. 2015-32117 Filed 12-22-15; 8:45 am]

BILLING CODE 3720-58-P